DEPARTMENT OF ENERGY

Federal Energy Regulatory Commission

[Docket Nos. CP00-61-000, CP00-62-000, CP00-63-000, CP00-65-000]

Central New York Oil and Gas Company, LLC and Tennessee Gas Pipeline Company; Notice of Availability of the Environmental Assessment for the Proposed Stagecoach Storage and Expansion Projects

September 15, 2000.

The staff of the Federal Energy Regulatory Commission (FERC or Commission) has prepared an environmental assessment (EA) on the natural gas storage and pipeline facilities proposed by Central New York Oil and Gas Company, LLC (CNYOG) and Tennessee Gas Pipeline Company (Tennessee) in the above-referenced dockets.

The EA was proposed to satisfy the requirements of the National Environmental Policy Act. The staff concludes that approval of the proposed projects, with appropriate mitigating measures, would not constitute a major Federal action significantly affecting the quality of the human environment.

The EA assesses the potential environmental effects of the construction and operation of CNYOG's proposed underground gas storage facilities and Tennessee's related pipeline facilities. CNYOG's proposed Stagecoach Storage Project would include:

• Up to 26 storage injection/withdrawal wells;

• A 25,000-horsepower (hp) electrically-driven compressor station (Central Compression Facility) with gas cleaning and dehydration equipment, regulating facilities, pig launchers and receivers, miscellaneous valves and regulators, and control equipment;

• A total of about 10 miles of 8-, 12-, 16-, and 20-inch-diameter gathering pipeline;

• 14 meter stations and isolating valves along the gathering pipeline system; and

• About 2 miles of access roads not contained within pipeline or well site easements.

The Stagecoach Storage Project also includes a 4.7-mile-long, 12-inch-diameter pipeline (Twin Tier Lateral) from the Central Compressor Facility to a nonjurisdictional electric generating facility (Twin Tier Power Plant); and 1.5-mile-long nonjurisdictional 115 (kilovolt) kV electric transmission line that would extend from the Central Compression Facility to a point of interconnection with a 115 kV transmission line owned by the New York State Electric & Gas Corporation.

Tennessee's proposed Stagecoach Expansion Project would include:

• About 23.7 miles of 30-inch-diameter pipeline (Stagecoach Lateral) extending from an interconnection with Tennessee's mainline system in Bradford County, Pennsylvania to an interconnect with CNYOG's Stagecoach Storage Project in Tioga County, New York;

• A new bi-directional meter station, capable of handling 500,000 dekatherms (Dth) per day, at the northern end of the Stagecoach Lateral;

• About 3.9 miles of 30-inch-diameter loop ¹ on its 300-Line in Susquehanna County, Pennsylvania;

¹ A loop is a segment of pipeline that is installed adjacent to an existing pipeline and connected to it on both ends. The loop allows more gas to be moved through the pipeline system.

• A new 14,550-hp Solar Mars gas turbine centrifugal compressor station near the Tennessee Mainline Valve 323-1 in Pike County, Pennsylvania;

• About 6.5 miles of 24-inch-diameter pipeline to replace various sections along the 300-Line in Pennsylvania and New Jersey as a result of increasing the maximum allowable operating pressure (MAOP) of 74.1 miles of pipeline on the 300-Line; and

• Modifications and/or upgrades at 10 existing meter stations and 3 mainline valves at various locations along the 300-Line to accommodate the MAOP increase.

The Stagecoach Storage Project would have a working gas capacity of up to 13.6 billion cubic feet (Bcf), with the capability of withdrawals of as much as 500 million cubic feet per day (MMcf/d) and injections of as much as 250 MMcf/d. Tennessee's proposed Stagecoach Expansion Project would expand its existing 300-Line to transport an additional 90,000 Dth per day of natural gas to accommodate additional firm transportation service.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission, 888 First St., N.E., Room 1A, Washington, DC 20426;

• Label one copy of the comments for the attention of the Gas 1, PJ-11.1;

• Reference Docket Nos. CP00-63-000 and CP00-65-000; and

• Mail your comments so that they will be received in Washington, DC on or before October 16, 2000.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-0004 or on the FERC Internet website (www.ferc.fed.us) using the “RIMS”link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-24202 Filed 9-21-00; 8:45 am]

BILLING CODE 6717-01-M